DEPARTMENT OF ENERGY

Office of Science; Advanced Scientific Computing Advisory Committee; Meeting

AGENCY: Department of Energy.

ACTION: Notice of open meeting.

SUMMARY: This notice announces a meeting of the Advanced Scientific Computing Advisory Committee (ASCAC). Federal Advisory Committee Act (Pub. L. 92-463, 86 Stat. 770) requires that public notice of these meetings be announced in the Federal Register.

DATES: Thursday, October 25, 2001, 8:30 a.m. to 5 p.m.; Friday, October 26, 8:30 a.m. to 1 p.m.

ADDRESSES: Crowne Plaza Hotel, 14th and K Streets, Washington, DC.

FOR FURTHER INFORMATION CONTACT: Melea Baker, Office of Advanced Scientific Computing Research; U. S. Department of Energy; 19901 Germantown Road; Germantown, MD 20874-1290; Telephone (301)-903-7486 (Email: Melea.Baker@science.doe.gov).

SUPPLEMENTARY INFORMATION:

Purpose of the Meeting

The purpose of this meeting is to provide advice and guidance with respect to the advanced scientific computing research program.

Tentative Agenda: Agenda will include discussions of the following:

Thursday, October 25, 2001

Introduction

Remarks from the Director, Office of Science

Presentations on Facilities

Discussions on Facilities

Public Comment

Friday, October 26, 2001

Remarks from the Office of Advanced Scientific Computing Research

Scientific Discovery through Advanced Computing Update

Computational Biology Discussion

Advisory Committee Open Discussion of Issues

Public Comment

Public Participation

The meeting is open to the public. If you would like to file a written statement with the Committee, you may do so either before or after the meeting. If you would like to make oral statements regarding any of the items on the agenda, you should contact Melea Baker via FAX at 301-903-4846 or via email (Melea.Baker@science.doe.gov). You must make your request for an oral statement at least 5 business days prior to the meeting. Reasonable provision will be made to include the scheduled oral statements on the agenda. The Chairperson of the Committee will conduct the meeting to facilitate the orderly conduct of business. Public comment will follow the 10-minute rule.

Minutes

The minutes of this meeting will be available for public review and copying within 60 days at the Freedom of Information Public Reading Room; 1E-190, Forrestal Building; 1000 Independence Avenue, SW; Washington, DC 20585; between 9 a.m. and 4 p.m., Monday through Friday, except holidays.

Issued in Washington, DC on October 4, 2001.
Rachel M. Samuel,
Deputy Advisory Committee, Management Officer.

[FR Doc. 01-25437 Filed 10-9-01; 8:45 am]

BILLING CODE 6450-01-P